DEPARTMENT OF COMMERCE

National Oceanic and Atmospheric Administration

[RTID 0648-XE822]

Endangered Species; File No. 28617

AGENCY: National Marine Fisheries Service (NMFS), National Oceanic and Atmospheric Administration (NOAA), Commerce.

ACTION: Notice; receipt of application.

SUMMARY: Notice is hereby given that Matthew Balazik, Ph.D., U.S. Army Corps of Engineers, 251 John Tyler Memorial Highway, Henrico, VA 23231, has applied in due form for a permit to take green (Chelonia mydas) and loggerhead (Caretta caretta) sea turtles for purposes of scientific research.

DATES: Written comments must be received on or before May 14, 2025.

ADDRESSES: The application and related documents are available for review by selecting “Records Open for Public Comment” from the “Features” box on the Applications and Permits for Protected Species home page, https://apps.nmfs.noaa.gov, and then selecting File No. 28617 from the list of available applications. These documents are also available upon written request via email to NMFS.Pr1Comments@noaa.gov.

Written comments on this application should be submitted via email to NMFS.Pr1Comments@noaa.gov. Please include File No. 28617 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222 through 226).

The applicant proposes to test the efficacy of tickler chains as a deterrent for sea turtle interactions with U.S. Army Corps of Engineers dredging activities. Green and loggerhead sea turtles captured under other authority at the St. Lucie Power Plant would be used for the research. The applicant would drag a tickler chain array from a boat in the vicinity of up to 50 turtles of each species, annually, and photograph and record their reactions using divers and mounted cameras. The permit would be valid for up to 5 years from the date of issuance.

Dated: April 9, 2025.
Julia M. Harrison,
Chief, Permits and Conservation Division, Office of Protected Resources, National Marine Fisheries Service.

[FR Doc. 2025-06334 Filed 4-11-25; 8:45 am]

BILLING CODE 3510-22-P